OFFICE OF SCIENCE AND TECHNOLOGY POLICY

Request for Information To Support the Development of a Federal Environmental Justice Science, Data, and Research Plan

AGENCY: Office of Science and Technology Policy (OSTP).

ACTION: Notice of request for information (RFI).

SUMMARY: The Office of Science and Technology Policy (OSTP) seeks information to assist in developing a coordinated Federal strategy to identify and address gaps in science, data, and research related to environmental justice. Information received through this RFI will inform the biennial Environmental Justice Science, Data, and Research Plan.

DATES: Interested persons and organizations are invited to submit comments on or before December 12, 2023.

ADDRESSES: Interested individuals and organizations should submit comments electronically via regulations.gov. Due to time constraints, mailed paper submissions will not be accepted, and electronic submissions received after the deadline may not be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Response to this RFI is voluntary. Each responding entity (individual or organization) is requested to submit only one response. The National Science and Technology Council Environmental Justice Subcommittee welcomes any responses to inform and guide the work of the subcommittee. Please feel free to respond to as many prompts as you choose, indicating the section number and question letter being addressed. Responses are encouraged to include the name of the person(s) or organization(s) filing the comment, and may also include the respondent type (e.g., academic, non-profit, professional society, community-based organization, industry, trainee/student, member of the public, government, other). Respondent's role in the organization may also be provided (e.g., researcher, faculty, student, program manager, journalist) on a voluntary basis. Additionally, please include the Docket ID at the top of your comments.

Comments containing references, studies, research, and other empirical data that are not widely published should include copies or electronic links of the referenced materials. Please note that the U.S. Government will not pay for response preparation, or for the use of any information contained in the response. A response to this RFI will not be viewed as a binding commitment to develop or pursue the project or ideas discussed.

FOR FURTHER INFORMATION CONTACT: For additional information, please direct questions to Dr. Kristi Pullen Fedinick, OSTP Assistant Director of Environmental Justice Science and Technology at EJ@ostp.eop.gov. or via phone at (202) 881-9335.

SUPPLEMENTARY INFORMATION: On April 21, 2023, President Biden signed Executive Order (E.O.) 14096 to revitalize our nation's commitment to environmental justice for all.¹ As set forth in section 2 of E.O. 14096, “Environmental justice” means the just treatment and meaningful involvement of all people, regardless of income, race, color, national origin, Tribal affiliation, or disability, in agency decision-making and other Federal activities that affect human health and the environment so that people: (i) are fully protected from disproportionate and adverse human health and environmental effects (including risks) and hazards, including those related to climate change, the cumulative impacts of environmental and other burdens, and the legacy of racism or other structural or systemic barriers; and (ii) have equitable access to a healthy, sustainable, and resilient environment in which to live, play, work, learn, grow, worship, and engage in cultural and subsistence practices.

¹ E.O. 14096, Revitalizing Our Nations Commitment to Environmental Justice for All, 88 FR 25, 351 (Apr. 26, 2023); White House Fact Sheet (Apr. 21, 2023).

To address the need for a coordinated Federal strategy to identify and address gaps in science, data, and research related to environmental justice, Section 5 of E.O. 14096 directs the Director of the Office of Science and Technology Policy (OSTP) to establish an Environmental Justice Subcommittee of the National Science and Technology Council (Environmental Justice Subcommittee). As directed by the E.O., the Environmental Justice Subcommittee is preparing an Environmental Justice Science, Data, and Research Plan (Research Plan) to:

(A) analyze any gaps and inadequacies in data collection and scientific research related to environmental justice, with a focus on gaps and inadequacies that may affect agencies' ability to advance environmental justice, including through the Environmental Justice Strategic Plans required under section 4 of E.O. 14096;

(B) identify opportunities for agencies to coordinate with the research efforts of State, Tribal, territorial, and local governments; academic institutions; communities; the private sector; the non-profit sector; and other relevant actors to accelerate the development of data, research, and techniques—including consideration of Indigenous Knowledge—to address gaps and inadequacies in data collection and scientific research that may affect agencies' ability to advance environmental justice;

(C) provide recommendations to agencies on the development and use of science, data, and research to support environmental justice policy and the agency responsibilities outlined in section 3 of the E.O.;

(D) provide recommendations to the Chair of the White House Council on Environmental Quality (CEQ) on data sources to include in the Climate and Economic Justice Screening Tool established pursuant to section 222(a) of Executive Order 14008;

(E) provide recommendations to agencies on ethical standards, privacy protections, and other requirements for the development and use of science, data, and research addressed in the Research Plan, including recommendations with respect to engaging in consultation with and obtaining consent of Tribal Nations; and

(F) provide recommendations to agencies on:

(1) encouraging participatory science, such as research or data collection undertaken by communities or the public, and, as appropriate, integrating such science into agency decision-making processes;

(2) taking steps to ensure or encourage, as appropriate, that collections of data related to environmental justice include data from the Territories and possessions of the United States;

(3) improving the public accessibility of research and information produced or distributed by the Federal Government, including through the use of machine-readable formats, where appropriate;

(4) disaggregating environmental risk, exposure, and health data by race, national origin, income, socioeconomic status, age, sex, disability, and other readily accessible and appropriate categories;

(5) identifying and addressing data collection challenges related to patterns of historical or ongoing racial discrimination and bias;

(6) analyzing cumulative impacts (including risks) from multiple sources, pollutants or chemicals, and exposure pathways, and accounting for non-chemical stressors and current and anticipated climate change;

(7) in collaboration with Tribal Nations, as appropriate, collecting, maintaining, and analyzing information on consumption patterns of fish, wildlife, and plants related to subsistence and cultural practices of Tribal and Indigenous populations;

(8) providing opportunities for meaningful engagement for communities with environmental justice concerns on the development and design of data collection and research strategies relevant to those communities; and

(9) implementing sections 3-3 and 4-4 of Executive Order 12898 in an efficient and effective manner.

Information Requested

Respondents may provide information as many topics below as they choose. The Subcommittee on Environmental Justice formed under the National Science and Technology Council Committee on the Environment, co-chaired by OSTP, the White House Council on Environmental Quality (CEQ), Environmental Protection Agency (EPA), and Department of Transportation (DOT), will develop an Environmental Justice Science, Data, and Research Plan. Input is welcome from stakeholders and members of the public representing all backgrounds and perspectives.

To support the development of the Federal Environmental Justice, Science, Data, and Research Plan, OSTP seeks information on the collection and use of science, data, and research in Federal decision making, including on the following topics:

1. Development and Use of Science, Data, and Research To Support Environmental Justice Policy

a. What kinds of Federal activities ² do you think should better include or consider data or research related to environmental justice? Are there specific data types of research you would prioritize?

² As set forth in E.O. 14096, section 3, “ ‘Federal activity’ means any agency rulemaking, guidance, policy, program, practice, or action that affects or has the potential to affect human health and the environment, including an agency action related to climate change. Federal activities may include agency actions related to: assuring compliance with applicable laws; licensing, permitting, and the reissuance of licenses and permits; awarding, conditioning, or oversight of Federal funds; and managing Federal resources and facilities. This may also include such activities in the District of Columbia and the Commonwealth of Puerto Rico, the Commonwealth of the Northern Mariana Islands, American Samoa, Guam, the U.S. Virgin Islands, and other Territories and possessions of the United States.”

b. What are the biggest opportunities for advancing research and development to support environmental justice-related decision making, both within the Federal research programs and in Federal extramural grant programs?

c. What types of data and evidence, including Indigenous Knowledge ³ as appropriate, do you find most important or most needed for advancing governmental decision-making related to environmental justice?

³ https://www.whitehouse.gov/wp-content/uploads/2022/12/OSTP-CEQ-IK-Guidance.pdf.

d. What data sources should the Environmental Justice Subcommittee consider recommending to the Chair of CEQ for inclusion in the Climate and Economic Justice Screening Tool established pursuant to section 222(a) of Executive Order 14008?

e. Please provide specific examples in which data have been used to improve conditions in communities with environmental justice concerns or any other communities?

f. Please provide examples of data, research, local or Indigenous Knowledge, and/or science—or the lack thereof—that have been misused or misinterpreted in environmental justice-related decisions and actions?

2. Identifying and Addressing Data Gaps and Inadequacies in Data Collection and Scientific Research Related to Environmental Justice

a. What data gaps or data collection challenges have you encountered related to patterns of historical or ongoing discrimination and bias (e.g., related to income, race, color, national origin, Tribal affiliation, or disability)?

b. What datasets have you used that may be relevant to assessing environmental, health, economic, or environmental justice burdens or impacts in the U.S. Territories?

c. What recommendations do you have to ensure or encourage, as appropriate, that collection of data related to environmental justice include data from U.S. Territories?

3. Encouraging Participatory Science and Meaningful Engagement for Communities

a. What role should the Federal government play in collecting, storing, and managing community-derived data, including information collected from communities with environmental justice concerns?

b. What suggestions do you have for use of community-derived data in Federal decisions with varying needs for quality assurance, reproducibility, and peer review across different decision contexts?

c. What are the priority decision contexts in which community-derived data should be applied?

d. What other actions could the Federal government take to encourage use of community-generated data in state or local decision making?

e. What recommendations do you have for encouraging, implementing, and institutionalizing community and/or participatory science, such as research or data collection undertaken by communities or the public, and, as appropriate, integrating such science into agency decision-making processes?

f. What practices could ensure that effective, respectful, and meaningful public engagement is built into the research process?

g. What methods, processes, or structures do you know of for respectfully collecting, maintaining, and analyzing information with communities?

h. What mechanisms of submitting community-derived data to the Federal government for use in decision-making would you find the most useful?

i. What types of research strategies are most meaningful to you, and how do you prefer to be engaged in environmental justice research? Please feel free, if appropriate, to indicate if your perspective is grounded in any personal experience, including any experiences as a member of any community with environmental justice concerns. If you are providing comments as a representative of a Tribal Nation, or as a representative of a U.S. Territory, or any other governmental entity please also feel free to note that as relevant to this or any other question.

4. Ethical Standards, Privacy Protections, and Other Requirements for the Development and Use of Science, Data, and Research

a. What systems or approaches to privacy protections, attribution, and ethical standards have you encountered or developed that have been useful in community-derived experiential data?

b. What suggestions do you have on ethical standards, privacy protections, and other requirements for the development and use of science, data, and research?

5. Research Coordination and Public Access to Federal Data

a. Are there datasets not owned by the Federal government that you have utilized to help support the advancement of environmental justice? If you have used non-Federal data sets to advance environmental justice, which ones have you used and why?

b. How can the Federal government better collaborate across Federal agencies, and partner with State, Tribal, territorial, and local governments, academic institutions, the private sector, the non-profit sector, and other entities to accelerate the development of data, research, and techniques to address gaps and inadequacies in data collection and scientific research that may affect agencies' ability to advance environmental justice?

c. What kinds of tools and resources would help communities and local decision makers better access data and information and address environmental justice in decision making?

d. What recommendations do you have for improving the public accessibility of data and information produced or distributed by the Federal Government, including through the use of digital and spatial formats, where appropriate?

6. Data Analysis and Methodological Considerations

a. What methods do you recommend for disaggregating environmental risk, exposure, and health data by race, national origin, income, socioeconomic status, age, sex, disability, and/or other readily accessible and appropriate categories?

b. What methods do you recommend for analyzing cumulative impacts (including risks) from multiple sources, pollutants or chemicals, and exposure pathways, and accounting for non-chemical stressors and current and anticipated climate change?

c. What methods, processes, or structures do you recommend for respectfully collecting, maintaining, and analyzing information, in collaboration with Tribal Nations, on consumption patterns of fish, wildlife, and plants related to subsistence and cultural practices of Tribal and Indigenous populations?

7. Additional Considerations

a. Is there anything else you would like to be considered in the development of the Environmental Justice Science, Data, and Research Plan as described in E.O. 14096?

Dated: October 6, 2023.
Stacy Murphy,
Deputy Chief Operations Officer/Security Officer.

[FR Doc. 2023-22527 Filed 10-12-23; 8:45 am]

BILLING CODE 3270-F1-P